ENVIRONMENTAL PROTECTION AGENCY

40 CFR Parts 61 and 63

[EPA-R01-OAR-2006-0345; FRL-8237-9]

Approval of the Clean Air Act, Section 112(l), Authority for Hazardous Air Pollutants: Asbestos Management and Control; State of New Hampshire Department of Environmental Services

AGENCY: Environmental Protection Agency (EPA).

ACTION: Proposed rule.

SUMMARY: The EPA is proposing to approve New Hampshire Department of Environmental Services' (NH DES) request to implement and enforce its regulation entitled “Asbestos Management and Control” in lieu of the Asbestos National Emission Standard for Hazardous Air Pollutants (Asbestos NESHAP) as it applies to certain asbestos-related activities. Upon approval, NH DES' rule will be federally enforceable and will apply to all sources that otherwise would be regulated by the Asbestos NESHAP with the exception of inactive waste disposal sites that ceased operation on or before July 9, 1981. These inactive disposal sites are already regulated by State rules that were approved by EPA on May 23, 2003. NH DES' request seeks to adjust the federal rules by demonstrating the equivalency of its rules to the federal requirements.

DATES: EPA must receive written comments by December 28, 2006.

ADDRESSES: Submit your comments, identified by Docket ID Number EPA-R01-OAR-2006-0345 by one of the following methods:

1. http://www.regulations.gov: Follow the on-line instructions for submitting comments.

2. E-mail: lancey.susan@epa.gov.

3. Fax: (617) 918-0656.

4. Mail: “EPA-R01-OAR-2006-0345”, Daniel Brown, Manager, Air Permits, Toxics & Indoor Programs Unit, Office Of Ecosystem Protection, U.S. Environmental Protection Agency, One Congress Street, Suite 1100 (CAP), Boston, MA 02114-2023.

5. Hand Delivery or Courier: Deliver your comments to: Daniel Brown, Manager, Air Permits, Toxics & Indoor Programs Unit, Office of Ecosystem Protection, U.S. Environmental Protection Agency, One Congress Street, Suite 1100 (CAP), Boston, MA 02114-2023. Such deliveries are only accepted during the Regional Office's normal hours of operation. The Regional Office's official hours of business are Monday through Friday, 8:30 to 4:30 excluding legal holidays.

Please see the direct final rule which is located in the Rules Section of this Federal Register for detailed instructions on how to submit comments.

FOR FURTHER INFORMATION CONTACT: Susan Lancey, Air Permits, Toxics & Indoor Programs Unit, U.S. EPA, One Congress Street, Suite 1100 (CAP), Boston, MA 02114-2023, (617) 918-1656.

SUPPLEMENTARY INFORMATION: In the Final Rules section of this Federal Register, EPA is approving the State's submittal as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment. For additional information, see the direct final rule which is located in the Rules section of the Federal Register.

Dated: October 17, 2006.
Robert W. Varney,
Regional Administrator, EPA New England.

[FR Doc. E6-20173 Filed 11-27-06; 8:45 am]

BILLING CODE 6560-50-P